DEPARTMENT OF JUSTICE

Drug Enforcement Administration

[Docket No. DEA-902]

Bulk Manufacturer of Controlled Substances Application: Cambridge Isotope Laboratories, Inc.

AGENCY: Drug Enforcement Administration, Justice.

ACTION: Notice of application.

SUMMARY: Cambridge Isotope Laboratories, Inc., has applied to be registered as a bulk manufacturer of basic class(es) of controlled substance(s). Refer to SUPPLEMENTAL INFORMATION listed below for further drug information.

DATES: Registered bulk manufacturers of the affected basic class(es), and applicants therefore, may file written comments on or objections to the issuance of the proposed registration on or before November 29, 2021. Such persons may also file a written request for a hearing on the application on or before November 29, 2021.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on July 29, 2021, Cambridge Isotope Laboratories, Inc., 50 Frontage Drive, Andover, Massachusetts 01810-5413, applied to be registered as a bulk manufacturer of the following basic class(es) of controlled substance(s):

Controlled substance | Drug code | Schedule
Tetrahydrocannabinols | 7370 | I

The company plans to synthetically bulk manufacture the controlled substance Tetrahydrocannabinols to produce analytical standards for distribution to its customers. No other activity for this drug code is authorized for this registration.

Brian S. Besser,
Acting Assistant Administrator.

[FR Doc. 2021-21101 Filed 9-28-21; 8:45 am]

BILLING CODE;P